DEPARTMENT OF ENERGY

Federal Energy Regulatory Commission

[Docket No. GT01-2-000]

Northwest Pipeline Corporation; Notice of Proposed Changes in FERC Gas Tariff and Filing of Non-Conforming Service Agreements

October 25, 2000.

Take notice that on October 19, 2000, Northwest Pipeline Corporation (Northwest) tendered for filing and acceptance three Rate Schedule TF-1 non-conforming service agreements. Northwest also tendered the following tariff sheets as part of its FERC Gas Tariff, Third Revised Volume No. 1, to be effective November 19, 2000:

Seventh Revised Sheet No. 364

Fifth Revised Sheet No. 365

First Revised Sheet No. 366

Northwest stats that the service agreements each contain a provision imposing a subordinate scheduling priority and that the tariff sheets are submitted to add such agreements to the list of non-conforming service agreements contained in Northwest's tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27850 Filed 10-30-00; 8:45 am]

BILLING CODE 6717-01-M